DEPARTMENT OF ENERGY

Federal Energy Regulatory Commission

[Project No. P-14862-001]

Douglas Leen; Notice of Application Tendered for Filing With the Commission and Soliciting Additional Study Requests

Take notice that the following hydroelectric application has been filed with the Commission and is available for public inspection.

a. Type of Application: Original minor license.

b. Project No.: P-14862-001.

c. Date filed: November 28, 2018.

d. Applicant: Mr. Douglas Leen.

e. Name of Project: Kupeanof Microhydro Project.

f. Location: On an unnamed stream, in Petersburg Borough, Alaska. The project would occupy 0.1 acre of United States lands administered by U.S. Forest Service.

g. Filed Pursuant to: Federal Power Act 16 U.S.C. 791 (a)-825(r).

h. Applicant Contact: Douglas Leen, P.O. Box 341, Petersburg, AK 99833; (907) 518-0335; mail@dougleen.com.

i. FERC Contact: Ryan Hansen at (202) 502-8074; or email at ryan.hansen@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 28, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14862-001.

m. The application is not ready for environmental analysis at this time.

n. The proposed hydroelectric project would consist of: an intake located in either a containment pond created by 50 sand bags or an existing pond; a penstock consisting of an up to 400-foot-long, 0.5-foot-diameter PVC pipe; one turbine unit with a capacity of 1.5 kilowatts; a 4-foot-long, 3-foot-wide, 7-foot-high lumber shed on a cement pad; a 150-foot-long transmission line; and appurtenant facilities.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Notice of Acceptance March 2019

Issue Scoping Document 1 for comments April 2019

Comments on Scoping Document 1 May 2019

Issue notice of ready for environmental analysis May 2019

Commission issues EA August 2019

Comments on EA September 2019

Dated: December 11, 2018.
Kimberly D. Bose,
Secretary.

[FR Doc. 2018-27294 Filed 12-17-18; 8:45 am]

BILLING CODE 6717-01-P